FEDERAL COMMUNICATIONS COMMISSION

Notice of Public Information Collection(s) Being Submitted for Review to the Office of Management and Budget, Comments Requested

April 22, 2009.

SUMMARY: The Federal Communications Commission, as part of its continuing effort to reduce paperwork burden, invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 1, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov and to Judith-B.Herman@fcc.gov, Federal Communications Commission, or an e-mail to PRA@fcc.gov. To view a copy of this information collection request (ICR) submitted to OMB: (1) Go to the Web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION:

OMB Control Number: 3060-0512.

Title: ARMIS Annual Summary Report—FCC Report 43-01.

Report No.: FCC Report 43-01.

Type of Review: Revision of a currently approved collection.

Respondents: Business or other for-profit.

Number of Respondents: 45 respondents; 45 responses.

Estimated Time per Response: 88 hours (average).

Frequency of Response: Annual reporting requirement.

Obligation to Respond: Mandatory. Statutory authority for this information collection is contained in 47 U.S.C. sections 219 and 220 of the Communications Act of 1934, as amended.

Total Annual Burden: 3,960 hours.

Total Annual Cost: N/A.

Privacy Act Impact Assessment: Not applicable.

Nature and Extent of Confidentiality: Ordinarily, questions of a sensitive nature are not involved in the ARMIS Annual Summary Report (FCC Report 43-01). The Commission contends that areas in which detailed information is required are fully subject to regulation and the issue of data being regarded as sensitive will arise in special circumstances only. In such circumstances, the respondent is instructed on the appropriate procedures to follow to safeguard sensitive data. See 47 CFR 0.459 for procedures for requesting confidential treatment of data.

Needs and Uses: The Commission is requesting a revision of this information collection in order to obtain the full three year clearance from the OMB. The total annual hourly burden for this collection is now estimated at 3,960 hours, a decrease of 7,128 hours. The Commission notes that the total number of respondents has decreased from 124 to 45. We are also reducing the hourly burden by to reflect that 80 respondents that will not file this report attributed to the Memorandum Opinion and Order, FCC 08-271, on December 12, 2008 that reflects the Commission's forbearance that AT&T, Quest and Verizon need not file this ARMIS Report. Therefore, the Commission is reporting a −6,952 hour program change for this change in the annual hourly burden estimate.

Secondly, the Commission is also reducing the hourly burden by a −176 hour adjustment to reflect two study area carriers that will not file this report since their revenue falls below the reporting threshold used for classifying carrier categories for various accounting and reporting purposes.

Finally, we are increasing the estimated average time per response by 88 hours to reflect a more accurate estimate to complete and file the report.

The Commission is requesting OMB approval of a revision of this information collection. We are decreasing the number of study area carriers filing this report to reflect the Commission's recent ARMIS orders. In the December 12, 2008, Memorandum Opinion and Order, WC Docket No. 07-204, FCC 08-271, the Commission, among other things, granted forbearance from the obligation of Quest, AT&T and Verizon to file ARMIS Report 43-01. This forbearance was conditioned on a Commission approval of those carriers' compliance plans. The Commission also imposed one further condition on its forbearance from the ARMIS Financial Reports—that each carrier continue to file an annual public filing without any assertions of confidentiality, of the pole attachment cost data currently filed as part of ARMIS Report 43-01 in WC Docket No. 07-204. The Commission's forbearance required those three carriers to file pole attachment data for all states in the next annual filing after approval of their compliance plan, but subsequent filings with the Commission need not include data for those states that have certified to regulation of pole attachments. By letters to the Commission, these three carriers agreed voluntarily to comply with the pole attachment condition. On December 31, 2008, by public notice, the Commission found that Quest, AT&T and Verizon had satisfied the condition that they obtain approval of compliance plans describing in detail how they will continue to fulfill their statutory and regulatory obligations. Therefore, these three carriers are no longer required to file this ARMIS Report 43-01 so long as they comply with the pole attachment filing condition. We are also reducing the hourly burden to reflect two additional respondents that will not file this report since their revenue fell below the reporting threshold used for classifying carrier's categories for various accounting and reporting purposes. This is an adjustment reduction of 176 hours to reflect the two fewer respondents. We are also increasing the number of study area reporting carriers by one. Finally, the Commission is changing the estimated average time per response to 88 hours to accurately reflect the estimated time to complete and file this report.

OMB Control Number: 3060-0859.

Title: Suggested Guidelines for Petitions for Ruling Under Section 253 of the Communications Act.

Form No.: N/A.

Type of Review: Extension of a currently approved collection.

Respondents: Business or other for-profit.

Number of Respondents: 80 respondents; 80 responses.

Estimated Time per Response: 63-125 hours.

Frequency of Response: On occasion reporting requirement.

Obligation to Respond: Voluntary. Statutory authority for this information collection is contained in 47 U.S.C. section 253 of the Communications Act of 1934, as amended.

Total Annual Burden: 6,280 hours.

Total Annual Cost: N/A.

Privacy Act Impact Assessment: N/A.

Nature and Extent of Confidentiality: The Commission is not requesting respondents to submit confidential information to the Commission. Respondents may request confidential treatment of such information, in some cases, of such information under 47 CFR 0.459 of the Commission's rules.

Needs and Uses: The Commission will submit this information collection to the OMB during this comment period in order to obtain the full three year clearance from them. The Commission is requesting an extension (no change in the reporting requirement). There is no change in the estimated number of respondents/responses or annual burden hours.

The Commission published a Public Notice on November 1998 which established various procedural guidelines related to the Commission's processing of petitions for preemption pursuant to Section 253 of the Communications Act of 1934, as amended. The Commission will use the information to discharge its statutory mandate relating to the preemption of state or local statutes or other state or local legal requirements.

Section 253 of the Communications Act of 1934, as amended; added by the Telecommunications Act of 1996, requires the Commission, with certain important exceptions, to preempt the enforcement of any state or local statute or regulation, or other state or local legal requirement (to the extent necessary) that prohibits or has intrastate telecommunications service. The Commission's consideration of preemption begins with the filing of a petition by an aggrieved party. The petition is placed on public notice and comment on by others. The Commission's decision is based on public record, generally composed of the petition and comments. The Commission has considered a number of preemption items since the passage of the Telecommunications Act of 1996, and believes it in the public interest to inform the public of the information necessary to support its full consideration of the issues likely to be involved in preemption actions. In order to render a timely and informed decision, the Commission expects petitioners and commenters to provide it with relevant information sufficient to describe the legal regime involved in the controversy and to establish the factual basis necessary for decision.

Federal Communications Commission.
Marlene H. Dortch,
Secretary.

[FR Doc. E9-9822 Filed 4-29-09; 8:45 am]

BILLING CODE 6712-01-P